DEPARTMENT OF STATE

[Public Notice 6977]

Culturally Significant Objects Imported for Exhibition Determinations: “Cleopatra: The Search for the Last Queen of Egypt”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Cleopatra: The Search for the Last Queen of Egypt,” imported from abroad for temporary exhibition within the United States, are of cultural significance. The objects are imported pursuant to loan agreements between the National Geographic Society, Washington, DC, and the foreign owners or custodians. I also determine that the exhibition or display of the exhibit objects at the Franklin Institute, Philadelphia, PA, from on or about June 5, 2010, until on or about December 31, 2010; at Discovery Times Square Exposition, New York, NY, from on or about February 1, 2011, until on or about August 31, 2011; at the Field Museum, Chicago, IL, from on or about October 15, 2011, until on or about April 15, 2012; at the California Science Center, Los Angeles, CA, from on or about May 15, 2012, until on or about December 1, 2012; at the Fort Lauderdale Museum of Art, Fort Lauderdale, FL, from on or about January 1, 2013, until on or about May 31, 2013; and at possible additional exhibitions or venues yet to be determined, is in the national interest. Public Notice of these Determinations is ordered to be published in the Federal Register.

FOR FURTHER INFORMATION CONTACT: For further information, including a list of the exhibit objects, contact Carol B. Epstein, Attorney-Adviser, Office of the Legal Adviser, U.S. Department of State (telephone: 202-632-6473). The address is U.S. Department of State, SA-5, L/PD, Fifth Floor, Washington, DC 20522-0505.

Dated: April 15, 2010.
Maura M. Pally,
Deputy Assistant Secretary for Professional and Cultural Exchanges, Bureau of Educational and Cultural Affairs, Department of State.

[FR Doc. 2010-9470 Filed 4-22-10; 8:45 am]

BILLING CODE 4710-05-P